DEPARTMENT OF THE TREASURY

Internal Revenue Service

26 CFR Part 301

[REG-124872-04]

RIN 1545-BD37

Clarification of Definitions; Hearing Cancellation

AGENCY: Internal Revenue Service (IRS), Treasury.

ACTION: Cancellation of public hearing on proposed rulemaking by cross-reference to temporary regulations.

SUMMARY: This document cancels a public hearing on a notice of proposed rulemaking by cross-reference to temporary regulations under section 7701 of the Internal Revenue Code that provide clarification of the definitions of a corporation and a domestic entity in circumstances where the business entity is considered to be created or organized in more than one jurisdiction.

DATES: The public hearing originally scheduled for November 3, 2004, at 10 a.m., is cancelled.

FOR FURTHER INFORMATION CONTACT: Sonya M. Cruse of the Publications and Regulations Branch, Legal Processing Division, Associate Chief Counsel (Procedures and Administration), (202) 622-4693 (not a toll-free number).

SUPPLEMENTARY INFORMATION: A notice of proposed rulemaking by cross-reference to temporary regulations and notice of public hearing that appeared in the Federal Register on Thursday, August 12, 2004 (69 FR 49840), announced that a public hearing was scheduled for November 3, 2004 at 10 a.m., in the auditorium, Internal Revenue Service Building, 1111 Constitution Avenue, NW., Washington, DC. The subject of the public hearing is under section 7701 of the Internal Revenue Code.

The public comment period for these regulations expired on October 15, 2004. The notice of proposed rulemaking instructed those interested in testifying at the public hearing to submit a request to speak and an outline of the topics to be addressed. As of Wednesday, October 20, 2004, no one has requested to speak. Therefore, the public hearing scheduled for November 3, 2004, is cancelled.

Cynthia E. Grigsby,
Acting Chief, Publications and Regulations Branch, Legal Processing Division, Associate Chief Counsel (Procedures and Administration).

[FR Doc. 04-23843 Filed 10-22-04; 8:45 am]

BILLING CODE 4830-01-P